DEPARTMENT OF COMMERCE

Bureau of Industry and Security

[Docket No. 220217-0051]

RIN 0694-XC089

Request for Public Comments on Supply Chain Issues To Support the U.S.-EU Trade and Technology Council Secure Supply Chains Working Group

AGENCY: Bureau of Industry and Security, U.S. Department of Commerce.

ACTION: Notice of request for public comments.

SUMMARY: The Bureau of Industry and Security (BIS) requests public comments regarding how to advance supply chain resilience and security in key sectors: Semiconductors; solar photovoltaics; ¹ critical minerals and materials including rare earth magnets,² lithium-ion batteries,³ and material inputs to semiconductors; ⁴ and pharmaceuticals ⁵ to inform the work of the United States-European Union (EU) Trade and Technology Council (TTC) Secure Supply Chains Working Group. The Working Group is tasked with increasing transparency of supply and demand, mapping respective existing sectoral capabilities, exchanging information on policy measures and research and development priorities, and cooperating on strategies to promote supply chain resilience and diversification.

¹ Solar photovoltaics include materials and production tools for the manufacturing of solar components.

² Critical minerals include neodymium and dysprosium.

³ Critical minerals include lithium, cobalt, class 1 nickel, manganese, and graphite.

⁴ Critical minerals include gallium and germanium.

⁵ Drug and Biologic Essential Medicines, Medical Countermeasures, and Critical Inputs.

DATES: The due date for filing comments is May 23, 2022.

ADDRESSES: Submissions: You may submit comments, identified by docket number BIS-2021-0046 or RIN 0694-XC089, through the Federal eRulemaking Portal: https://www.regulations.gov. To submit comments via https://www.regulations.gov, enter the docket number BIS-2021-0046 on the home page and click “Search.” The site will provide a search results page listing all documents associated with this docket. Find a reference to this notice and click the button entitled “Comment.” For further information on using https://www.regulations.gov, please consult the resources provided on the website by clicking on “FAQ.” For further information regarding required comment formatting, please see the Solicited Written Comments and Requirements for Written Comments sections below.

FOR FURTHER INFORMATION CONTACT: Kevin Coyne, U.S.-EU Trade and Technology Council Secure Supply Chains Working Group, Bureau of Industry and Security, at 202-482-4933, ttc_secure_supply_chains@doc.gov.

SUPPLEMENTARY INFORMATION:

Background

On June 15, 2021, President Joe Biden and European Commission President Ursula von der Leyen launched the U.S.-EU Trade and Technology Council at the U.S.-EU Summit in Brussels, Belgium. Together, the United States and the European Union account for a quarter of global trade and almost half of global gross domestic product, with U.S.-EU two-way trade in goods and services amounting to $1.1 trillion in 2019. In support of the continuing growth of U.S.-EU trade and cooperation, the TTC serves as a forum for the United States and the European Union to coordinate approaches to key global trade, economic, and technology issues, and to deepen transatlantic trade and economic relations based on shared democratic values.

The main goals of the TTC are to expand and deepen bilateral trade and investment; avoid new technical barriers to trade; cooperate on key policies regarding technology, digital issues and supply chains; support collaborative research; cooperate on the development of compatible and international standards; cooperate on regulatory policy and enforcement; and promote innovation and leadership by U.S. and EU firms. The TTC's ten working groups provide a framework for tackling challenges and advancing work aligned with some of our shared trade and technology priorities. These include cooperation on technology standards; global trade challenges and supply chain security; climate and clean technology; Information and Communications Technology (ICT) security and competitiveness; data governance and technology platforms; the misuse of technology threatening security and human rights; export controls; investment screening; and access to, and use of, digital technologies by small and medium enterprises.

On September 29, 2021, the U.S.-EU TTC met for the first time. The United States and the European Union reaffirmed the TTC's objectives to coordinate approaches to key global technology, economic, and trade issues; to deepen transatlantic trade and economic relations; and base policies on shared democratic values. Under the TTC's Secure Supply Chains Working Group, the United States and the European Union seek to maintain close cooperation on resilient and trusted supply chains that will foster common economic and security goals and strengthen capacities to respond decisively to international disasters and emergencies.

With regard to semiconductors, on September 29, 2021, the United States and the European Union released a statement as part of the TTC, which affirmed the importance of promoting transparency in the semiconductor supply chain in partnership with industry and all relevant stakeholders, jointly identifying gaps and vulnerabilities, mapping capacity in the semiconductor value chain, strengthening our domestic semiconductor ecosystems, avoiding a subsidy race to the bottom, and reducing strategic dependencies throughout the supply chain through diversification and increased investment.

Alongside the dedicated track on semiconductors, the Secure Supply Chains Working Group's initial focus is on solar photovoltaics, critical minerals and materials, and pharmaceuticals. In connection with these sectors, the Secure Supply Chains Working Group seeks to:

a. Increase visibility and transparency of supply and demand;

b. map respective existing sectoral capabilities;

c. exchange information on policy measures and research and development priorities; and

d. cooperate on strategies to promote supply chain resilience, security, and diversification.

Solicited Written Comments

BIS welcomes public comments on how best to achieve the four primary tasks of the Secure Supply Chains Working Group described above. While BIS invites input from all interested parties, it is particularly interested in obtaining information from foreign and domestic entities that actively participate in semiconductors, solar photovoltaics, critical minerals and materials, and pharmaceuticals supply chains. Interested parties are invited to submit written comments, data, analyses, or information pertinent to this request to BIS no later than May 23, 2022.

Requirements for Written Comments

The https://www.regulations.gov website allows users to provide comments by filling in a “Type Comment” field, or by attaching a document using an “Upload File” field. The Department prefers that comments be provided in an attached document. The Department prefers supplemental submissions in Microsoft Word (.doc files) or Adobe Acrobat (.pdf files). If the submission is in an application format other than Microsoft Word, Microsoft Excel, or Adobe Acrobat, please indicate the name of the application in the “Type Comment” field. Please do not attach separate cover letters to electronic submissions; rather, include any information that might appear in a cover letter within the comments. Similarly, to the extent possible, please include any exhibits, annexes, or other attachments in the same file, so that the submission consists of one supplemental file instead of multiple additional files. Comments (both public comments and non-confidential versions of comments containing business confidential information) will be placed in the docket and open to public inspection. Comments may be viewed on https://www.regulations.gov by entering docket number BIS-2021-0046 in the search field on the home page.

All filers should name their files using the name of the person or entity submitting the comments. Anonymous comments are also accepted. Communications from agencies of the United States Government will not be made available for public inspection. Anyone submitting business confidential information should clearly identify the business confidential portion at the time of submission, file a statement justifying nondisclosure and refer to the specific legal authority claimed, and provide a non-confidential version of the submission. The non-confidential version of the submission will be placed in the public file on https://www.regulations.gov. For comments submitted electronically containing business confidential information, the file name of the business confidential version should begin with the characters “BC.” Any page containing business confidential information must be clearly marked “BUSINESS CONFIDENTIAL” on the top of that page. The non-confidential version must be clearly marked “PUBLIC.” The file name of the non-confidential version should begin with the character “P.” The “BC” and “P” should be followed by the name of the person or entity submitting the comments or rebuttal comments. If a public hearing is held in support of this assessment, a separate Federal Register notice will be published providing the date and information about the hearing.

BIS does not maintain a separate public inspection facility. Requesters should first view the BIS's web page, which can be found at https://efoia.bis.doc.gov/ (see “Electronic FOIA” heading). If requesters cannot access the website, they may call 202-482-0795 for assistance. The records related to this assessment are made accessible in accordance with the regulations published in part 4 of title 15 of the Code of Federal Regulations (15 CFR 4.1 through 4.11).

Thea D. Rozman Kendler,
Assistant Secretary for Export Administration.

[FR Doc. 2022-07211 Filed 4-5-22; 8:45 am]

BILLING CODE 3510-33-P